DEPARTMENT OF COMMERCE

National Oceanic and Atmospheric Administration

[I.D. 121401A]

Endangered Species; Permits

AGENCY: National Marine Fisheries Service (NMFS), National Oceanic and Atmospheric Administration (NOAA), Commerce.

ACTION: Receipt of applications for two research permits (1355, 1356).

SUMMARY: Notice is hereby given of the following actions regarding permits for takes of endangered and threatened species for the purposes of scientific research under the Endangered Species Act (ESA): NMFS has received an application for a scientific research permit from Mr. Eugene Greer, of Columbia Environmental Research Center (CERC) and NMFS has received an application for a scientific research permit from Mr. Michael J. Bresette, of Inwater Research Group Inc.

DATES: Comments or requests for a public hearing on any of the new applications must be received at the appropriate address or fax number no later than 5 p.m. eastern standard time on February 4, 2002.

ADDRESSES: Written comments on any of the new applications or modification requests should be sent to the appropriate office as indicated below. Comments may also be sent via fax to the number indicated for the application or modification request. Comments will not be accepted if submitted via e-mail or the Internet. The applications and related documents are available for review in the indicated office, by appointment:

Permits, Conservation and Education Division, F/PR1, 1315 East West Highway, Silver Spring, MD 20910 (phone: 301-713-2289, fax: 301-713-0376).

Documents may also be reviewed by appointment in the Office of Protected Resources, F/PR1, NMFS, 1315 East-West Highway, Silver Spring, MD 20910-3226 (phone: 301-713-2289).

FOR FURTHER INFORMATION CONTACT: Lillian Becker, Silver Spring, MD (phone: 301-713-2319, fax: 301-713-0376, e-mail: Lillian.Becker@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered green turtle (Chelonia mydas)

Endangered hawksbill turtle (Eretmochelys imbricata)

Endangered Kemp's ridley turtle (Lepidochelys kempii)

Threatened loggerhead turtle (Caretta caretta)

Fish

Endangered shortnose sturgeon (Acipenser brevirostrum)

New Applications Received

Application 1355

The applicant proposes to test the effects of the ambient levels of discharged waste found in the waters of North Carolina on the growth and survival of shortnose sturgeon fry. Preliminary results of acute toxicity tests indicate these species are among the more sensitive fish relative to contaminant effects, indicating the importance of testing the hypothesis that water quality may be a limiting factor to the species recovery. Up to 3,000 fry will be placed into water shipped in from the rivers of North Carolina and observed for growth and survival.

Application 1356

The applicant proposes to investigate the demographic composition and genetic origin of sea turtles within the Key West National Wildlife Refuge. This will be done by the capturing of up to 100 green, 100 loggerhead, 50 Kemp's ridley, and 50 hawksbill turtles with nets and by hand. The turtles will be weighed, measured, blood sampled, PIT and flipper tagged, have stomach lavage and released back into the area where they were captured.

Dated: December 21, 2001.
Ann Terbush,
Chief, Permits, Conservation and Education Division, Office of Protected Resources, National Marine Fisheries Service.

[FR Doc. 02-130 Filed 1-2-02; 8:45 am]

BILLING CODE 3510-22-S